FEDERAL RETIREMENT THRIFT INVESTMENT BOARD

Sunshine Act; Notice of Meeting

Time and Date: 10 a.m. (Eastern Time), July 21, 2008.

Place: 4th Floor Conference Room, 1250 H Street, NW., Washington, DC 20005.

Status: Parts will be open to the public and parts closed to the public.

Matters to be Considered:

Parts Open to the Public

1. Approval of the minutes of the June 30, 2008, Board member meeting.

2. Thrift Savings Plan activity report by the Executive Director.

a. Monthly Participant Activity Report.

b. Legislative Report.

3. Quarterly Reports.

a. Investment Performance and Policy Review.

b. Vendor Financial Reports.

4. Report on Potential Risk of Loss to TSP Assets as a result of the Theoretical Insolvency of Barclays Global Investors.

Parts Closed to the Public

5. Confidential Vendor Financial Data.

Contact Person For More Information: Thomas J. Trabucco, Director, Office of External Affairs, (202) 942-1640.

Dated: July 14, 2008.
Thomas K. Emswiler,
Secretary, Federal Retirement Thrift Investment Board.

[FR Doc. 08-1443 Filed 7-15-08; 9:58 am]

BILLING CODE 6760-01-P